DEPARTMENT OF THE INTERIOR

Fish and Wildlife Service

Notice of Availability of an Environmental Assessment and Receipt of an Application for an Incidental Take Permit for the Copper Mountain College Habitat Conservation Plan, San Bernardino, CA

AGENCY: Fish and Wildlife Service, Interior.

ACTION: Notice of availability.

SUMMARY: The Copper Mountain Community College District (District) has applied to the Fish and Wildlife Service (Service or “we”) for an incidental take permit pursuant to section 10(a)(1)(B) of the Endangered Species Act of 1973, as amended (Act). We are considering issuing a 16-year permit to the District that would authorize take of the federally threatened desert tortoise (Gopherus agassizii) incidental to otherwise lawful activities associated with the expansion of their existing campus onto 71.57 acres of their 156.53-acre property.

We are requesting comments on the permit application, Habitat Conservation Plan (Plan), Environmental Assessment (EA), and Implementing Agreement (IA). The District's Plan describes the mitigation and minimization measures they would implement, as required in Section 10(a)(2)(B) of the Act, to address the effects of the project on the desert tortoise (see SUPPLEMENTARY INFORMATION). The EA describes the project's impacts on the human environment and analyzes the significance of those impacts. The IA describes the roles and responsibilities of District, the Service, and Joshua Tree National Park (Park) in implementation of the Plan. The draft Plan, EA, and IA are available for public review.

DATES: Written comments should be received on or before May 7, 2007.

ADDRESSES: Please address written comments to Diane K. Noda, Field Supervisor, Fish and Wildlife Service, Ventura Fish and Wildlife Office, 2493 Portola Road, Suite B, Ventura, California 93003. You may also send comments by facsimile to 805-644-3958.

FOR FURTHER INFORMATION CONTACT: Brian Croft, Fish and Wildlife Biologist, (see ADDRESSES) telephone: 805-644-1766, extension 302.

SUPPLEMENTARY INFORMATION:

Availability of Documents

You may obtain copies of these documents for review by contacting the office under ADDRESSES. Documents also will be available for public inspection, by appointment, during normal business hours at our Ventura office (see ADDRESSES) and at the Joshua Tree Public Library. The address for the Joshua Tree Public Library is 6465 Park Blvd., Joshua Tree, California 92252. These documents are also available on the Ventura Fish and Wildlife Office internet site: http://www.fws.gov/ventura.

Background

Section 9 of the Act and Federal regulations prohibit the “take” of fish or wildlife species listed as endangered or threatened, respectively. Take of listed fish or wildlife is defined under the Act to mean to harass, harm, pursue, hunt, shoot, wound, kill, trap, capture, or collect, or to attempt to engage in any such conduct. However, the Service, under limited circumstances, may issue permits to cover incidental take, (i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

The proposed Copper Mountain College Expansion Project is 156.53 acres in the unincorporated community of Joshua Tree, San Bernardino County, California. The District proposes to expand the Copper Mountain Community College campus from the existing 8.59 acres onto 71.57 acres that it owns in adjacent areas. It would begin the phased construction with a solar field immediately after permit issuance, followed by a multi-use sports complex, various roads, and a parking area in 2007. During the next 12 years, the District would construct additional parking lots, new sports fields, additional classroom facilities, and other buildings on the remaining portions of the 71.57-acre site.

The District proposes to implement measures to minimize adverse effects to the desert tortoise during construction and operation of these facilities, additional measures to mitigate adverse effects, and post-construction measures to minimize indirect effects from ongoing use of the new facilities. To minimize adverse effects to the desert tortoise and its habitat, the District would provide on-site biological monitoring during construction, perform pre-project clearance surveys, conduct a desert tortoise education program for project personnel, and use desert tortoise exclusion fencing to prevent desert tortoises from entering work areas. In addition, the District would meet a schedule of reporting requirements and appoint a field contact representative to oversee compliance.

After permit issuance, the District would also establish an 84.96-acre desert tortoise translocation area (Translocation Area) on land that it owns immediately adjacent to the 71.57-acre project site. The District would manage this Translocation Area as a habitat preserve and fund the maintenance and monitoring of the desert tortoises that are translocated there during Project Site development.

To mitigate adverse effects, the District would purchase an 80-acre private in-holding in the Thermal Canyon area of Joshua Tree National Park. The District would transfer this parcel to Joshua Tree National Park and provide funds to assure adequate management for desert tortoise conservation on the 80-acre site. The District would also implement one of the following mitigation measures within 12 months following permit issuance: (1) Provide funding to a designated management entity for the improved management of desert tortoise habitat on a 605-acre desert park near Coyote Hole Spring or (2) provide funding to the Desert Tortoise Preserve Committee for the acquisition and management of 30-acres of desert tortoise habitat at the Desert Tortoise Natural Area. The District is providing this additional mitigation because habitat on the 80-acre Thermal Canyon parcel is of lower quality than habitat the District would disturb on the project site.

The EA considers the environmental consequences of two alternatives, including: (1) The No Action Alternative, which consists of no campus expansion, no mitigation, and no permit issuance and (2) the Project Development Alternative to the taking, which consists of the development of the project site and implementation of the minimization and mitigation measures described in the previous paragraphs. Under the Project Development Alternative, a third party would be selected to work as the District's agent under their incidental take permit within 12 months of initial permit issuance. This would cover the third party for take during management of some mitigation lands described in the Plan.

Public Review and Comment

We are providing this notice pursuant to section 10(a) of the Act and the regulations of the National Environmental Policy Act (NEPA) of 1969 (40 CFR 1506.6). All comments that we receive, including names and addresses, will become part of the official administrative record and may be made available to the public. We will evaluate the application, associated documents, and comments submitted thereon to determine whether the application meets the requirements of NEPA regulations and section 10(a) of the Act. If we determine that those requirements are met, we will issue a permit to the District for the incidental take of desert tortoises. We will make our final permit decision no sooner than 60 days from the date of this notice.

If you wish to comment on the permit application, draft EA, Plan, or IA you may submit your comments to the address listed in the ADDRESSES section of this document. Our practice is to make comments, including names, home addresses, etc., of respondents available for public review. Individual respondents may request that we withhold their names and/or home addresses, etc., but if you wish us to consider withholding this information, you must state this prominently at the beginning of your comments. In addition, you must provide a rationale demonstrating and documenting that disclosure would constitute a clearly unwarranted invasion of privacy. In the absence of exceptional, documented circumstances, we will release this information. All submissions from organizations or businesses, and from individuals identifying themselves as representatives or officials of organizations or businesses, are available for public inspection in their entirety.

Dated: March 2, 2007.
Polly Wheeler,
Acting Deputy Manager, California/Nevada Operations Office, Sacramento, California.

[FR Doc. E7-4138 Filed 3-7-07; 8:45 am]

BILLING CODE 4310-55-P